NATIONAL AERONAUTICS AND SPACE ADMINISTRATION

14 CFR Part 1206

[DOCUMENT NUMBER NASA—NASA-2700-0006]

RIN 2700-AE04

Procedures for Disclosure of Records Freedom of Information Act Regulations; Correction

AGENCY: National Aeronautics and Space Administration.

ACTION: Notice of proposed rulemaking; correction.

SUMMARY: This document corrects the title and adds a word to a notice of proposed rulemaking published in the Federal Register of February 19, 2014. The correction clarifies the title and misspelled word to prevent confusion.

FOR FURTHER INFORMATION CONTACT: Nanette Jennings, 202-358-0819.

SUPPLEMENTARY INFORMATION:

Correction

In a notice of proposed rulemaking FR Doc. 2014-03450, on pages 9430-9432 and 9437 in the issue of February 19, 2014, make the following corrections:

1. In the subject heading, on page 9430 in the first column, remove the words “Procedures for Disclosure of Records Freedom of Information Act Regulations” and add in their place “Procedures for Disclosure of Records Under the Freedom of Information Act (FOIA).”

2. In the part title, on page 9431 in the first column, remove the words “Procedures for Disclosure of Records Freedom of Information Act Regulations” and add in their place “Procedures for Disclosure of Records Under the Freedom of Information Act (FOIA).”

3. In paragraph (h) of § 1206.300 on page 9432 in the third column, add the word “basis” after the words “case-by-case.”

4. In paragraph (i) of § 1206.502 on page 9437 in the first column, remove the reference to paragraphs “(h)(1), (2) and (3)” after the words “such as those listed” and add in its place “(i)(1), (2) and (3).”

Nanette Jennings,
NASA Federal Register Liaison Officer.

[FR Doc. 2014-03870 Filed 2-24-14; 8:45 am]

BILLING CODE 7510-13-P